DEPARTMENT OF HOMELAND SECURITY

Coast Guard

[Docket No. USCG-2025-0091]

Certificates of Alternative Compliance for the Eighth Coast Guard District

AGENCY: Coast Guard, DHS.

ACTION: Notification of issuance of certificates of alternative compliance.

SUMMARY: The Coast Guard announces that the Eighth Coast Guard District's Prevention Division has issued certificates of alternative compliance from the International Regulations for Preventing Collisions at Sea, 1972 (72 COLREGS), to vessels of special construction or purpose that cannot fully comply with the light, shape, and sound signal provisions of 72 COLREGS without interfering with the vessel's design and construction. We are issuing this notice because its publication is required by statute. This notification of issuance of certificates of alternative compliance promotes the Coast Guard's marine safety mission.

DATES: These Certificates of Alternative Compliance were issued between August 2024 and December 2024.

FOR FURTHER INFORMATION CONTACT: For information or questions about this notice call or email Lieutenant Jenifer Abiona, District Eight, Prevention Division, U.S. Coast Guard, telephone 206-827-2691, email Jenifer.V.Abiona@uscg.mil.

SUPPLEMENTARY INFORMATION: The United States is signatory to the International Maritime Organization's International Regulations for Preventing Collisions at Sea, 1972 (72 COLREGS), as amended. The special construction or purpose of some vessels makes them unable to comply with the light, shape, or sound signal provisions of the 72 COLREGS. Under statutory law, however, specified 72 COLREGS provisions are not applicable to a vessel of special construction or purpose if the Coast Guard determines that the vessel cannot comply fully with those requirements without interfering with the special function of the vessel.¹

¹ 33 U.S.C. 1605.

The owner, builder, operator, or agent of a special construction or purpose vessel may apply to the Coast Guard District Office in which the vessel is being built or operated for a determination that compliance with alternative requirements is justified,² and the Chief of the Prevention Division would then issue the applicant a certificate of alternative compliance (COAC) if he or she determines that the vessel cannot comply fully with 72 COLREGS light, shape, and sound signal provisions without interference with the vessel's special function.³ If the Coast Guard issues a COAC, it must publish notice of this action in the Federal Register.⁴

² 33 CFR 81.5.

³ 33 CFR 81.9.

⁴ 33 U.S.C. 1605(c) and 33 CFR 81.18.

The Eighth Coast Guard District has issued COACs to the following vessels from August 2024 to December 2024:

Year | Vessel name | Details
2024 | LEN O'CONNOR | This certificate authorized the placement of the vessel's sidelights on the elevated pilothouse roof, 34′-9″ above the main deck, 7′-½″ inboard from the sides of the vessel, and 4′-⅝″ aft of the forward masthead light.
2024 | HOS RUGER | This certificate authorized the placement of the vessel's aft masthead light positioned on the main mast above the pilothouse at a distance of 21′-9 11/16″ aft of the forward masthead light and 67′-10 1/16″ above the main deck; and sternlight positioned centerline on the aft end of the pilot at a distance of 36′-10⅛″ above the main deck and 17′-2 7/16″ aft of the aft masthead light.
2024 | HOS BENELLI | This certificate authorized the placement of the vessel's aft masthead light positioned on the main mast above the pilothouse at a distance of 21′-9 11/16″ aft of the forward masthead light and 67′-10 1/16″ above the main deck; and sternlight positioned centerline on the aft end of the pilot at a distance of 36′-10⅛″ above the main deck and 17′-2 7/16″ aft of the aft masthead light.
2024 | USNS ROBERT BALLARD | This certificate authorized the placement of the vessel's sternlight positioned centerline on the elevated pilothouse at a distance of 21′ above the main deck; and aft masthead light positioned centerline at a distance of 156′-9″ aft of the Forward Masthead Light and 69′-5″ above the main deck.
2024 | MARY JANE MORAN | This certificate authorized the placement of the vessel's sidelights on the elevated pilothouse, positioned 12′ from the side of the vessel, and 19′-6 13/16″ above the main deck; stern light aft side of the elevated pilothouse, 1′-4″ starboard of centerline and 20′-10⅛″ above the main deck; masthead light centerline on the elevated pilothouse, 39′ above the main deck when upright, and 25′-10⅜″ above the main deck when mast is in the lowered position during ship assist work in order to prevent damage when working in close proximity to a ship's bow/stern flare; restricted in ability to maneuver (RAM) and not under command (NUC) lights placed 1′-3″ forward of the masthead lights starting at a height of 27′-6 1/16″ above the main deck with vertical spacing between the RAM/NUC lights being 3′-3⅜″.
2024 | HOS RUNNING BUCK | This certificate authorized the placement of the vessel's aft masthead light positioned on the main mast above the pilothouse at a distance of 21′-5¼″ aft of the forward masthead light and at a vertical distance of 37′-1⅛″ from the forward masthead light; and sternlight positioned centerline on the aft edge of the fo'c'sle deck at a distance of 12′-9″ above the main deck and 176′-6″ forward of the vessel's stern.
2024 | ARTEMIS | This certificate authorized placement of the vessel's masthead light positioned centered on the elevated pilot house, 22′-7⅛″ above the main deck when the mast is in the lowered position; and 39′-4⅝″ above the main deck; sidelights on the elevated pilot house, 10′-1″ outboard from the centerline of the vessel, and 12′-5⅝″ above the main deck; and stern light based on the dual direction operational towing vessel: ahead direction—stern light centered on the pilot house at a height of 22′-7⅛″ for pushing ahead operations (e.g., pushing, hauling alongside, and pulling); and astern direction—stern light placed on the main mast at a height of 27′-9⅝″ for astern operations (e.g., towing).
2024 | BAHIA GULF | This certificate authorized placement of the vessel's masthead light positioned on the mast above the pilot house at a height of 39′-4⅝″ above the hull and when the mast is in the lowered position, a height of 22′-7⅛″ above the hull; sidelights positioned near the pilot house at a height of 12′-5⅝″ above the hull and 10′-1″ outboard from the centerline of the vessel; sternlight based on the towing vessel being dual direction operation: ahead direction—Sternlight centered on the pilot house at a height of 22′-7⅛″ for pushing ahead operations (e.g., pushing, hauling alongside, and pulling); and astern direction—Sternlight placed on the mast at a height of 27′-9⅝″ for astern operations (e.g., towing); and Restricted in Ability to Maneuver (RAM) and Not Under Command (NUC) lights placed 1′-6″ off centerline starting at 25′-5⅛″ above the hull and vertically spaced at 6′-7″.

The Chief of Prevention Division of the Eighth Coast Guard District, U.S. Coast Guard, certifies that the vessels listed above are of special construction or purpose and are unable to comply fully with the requirements of the provisions enumerated in the 72 COLREGS, without interfering with the normal operation, construction, or design of the vessels. The Chief of Prevention Division, further finds and certifies that the listed vessels are in the closest possible compliance with the applicable provisions of the 72 COLREGS.⁵

⁵ 33 U.S.C. 1605(a); 33 CFR 81.9.

This notice is issued under authority of 33 U.S.C. 1605(c) and 33 CFR 81.18.

Dated: June 16, 2025.
J.E. Fothergill,
Commander, U.S. Coast Guard, Chief of Prevention, Acting, By direction of the Commander, Eighth Coast Guard District.

[FR Doc. 2025-11914 Filed 6-26-25; 8:45 am]

BILLING CODE 9110-04-P